DEPARTMENT OF THE INTERIOR

Bureau of Land Management

[BLM_CA_FRN_MO4500179115]

Notice of Availability of the Record of Decision and Approved Resource Management Plan for the Redding and Arcata Field Offices Northwest California Integrated Resource Management Plan, CA; Correction

AGENCY: Bureau of Land Management, Interior.

ACTION: Notice of availability; correction.

SUMMARY: The Bureau of Land Management published a document in the Federal Register of November 13, 2024, announcing the availability of the Record of Decision (ROD) for the Approved Resource Management Plan (RMP) for the Redding Field Office and Arcata Field Office, Northwest California Integrated RMP. The document contained incorrect dates.

FOR FURTHER INFORMATION CONTACT: Victoria Callahan, Planning and Environmental Specialist, telephone: (707) 825-2315; address: Bureau of Land Management, Arcata Field Office, 1695 Heindon Road, Arcata, California 95521-4573; email: vslaughter@blm.gov or Chad Endicott, Planning and Environmental Specialist, telephone: (530) 224-2140; address: Bureau of Land Management, Redding Field Office, 6640 Lockheed Drive, Redding, CA 96002-9003; email: cendicott@blm.gov. Individuals in the United States who are deaf, deafblind, hard of hearing, or have a speech disability may dial 711 (TTY, TDD, or TeleBraille) to access telecommunications relay services for contacting Ms. Callahan or Mr. Endicott. Individuals outside the United States should use the relay services offered within their country to make international calls to the point-of-contact in the United States.

SUPPLEMENTARY INFORMATION:

Correction

In the Federal Register of November 13, 2024, in FR Doc. 2024-25789, at 89 FR 89656, in the third column, correct the Summary caption to read:

SUMMARY: The Bureau of Land Management (BLM) announces the availability of the Record of Decision (ROD) for the Approved Resource Management Plan (RMP) for the Redding Field Office and Arcata Field Office, Northwest California Integrated RMP. The California State Director signed the ROD on November 6, 2024, which constitutes the decision of the BLM and makes the Approved RMP effective immediately.

In the Federal Register of November 13, 2024, in FR Doc. 2024-25789, at 89 FR 89656, in the third column, correct the Dates caption to read:

DATES: The California State Director signed the ROD on November 6, 2024.

Dated: November 14, 2024.
Joesph Stout,
State Director.

[FR Doc. 2024-29288 Filed 12-11-24; 8:45 am]

BILLING CODE 4331-15-P